DEPARTMENT OF DEFENSE

Department of the Navy

Notice of Intent To Grant Partially Exclusive License; Wickford Technologies, Inc.

AGENCY: Department of the Navy, DoD.

ACTION: Notice.

SUMMARY: The Department of the Navy gives notice of its intent to grant Wickford Technologies, Inc., a revocable, nonassignable, partially exclusive license, with exclusive fields of use in knotmeter & anemometer for marine electronics, flow meter for gasoline pumps, flow sensor for process pipe, anemometer for aeronautics, in the United States to practice the Government-owned invention, U.S. Patent Number 6,508,136 entitled “High Output Differential Pressure Flow Sensor.”

DATES: Anyone wishing to object to the grant of this license must file written objections along with supporting evidence, if any, not later than July 11, 2003.

ADDRESSES: Written objections are to be filed with Indian Head Division, Naval Surface Warfare Center, Code OC4, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone 301-744-6111.

Dated: June 24, 2003.
E.F. McDonnell,
Major, Marine Corps, Federal Register Liaison Officer.

[FR Doc. 03-16995 Filed 7-3-03; 8:45 am]

BILLING CODE 3810-FF-P